DEPARTMENT OF HEALTH AND HUMAN SERVICES

Centers for Disease Control and Prevention

[30 Day-08-06AY]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Evaluation of the Spanish-Language Campaign “Good Morning Arthritis, Today You Will Not Defeat Us.”—New—National Center for Chronic Disease Prevention and Health Promotion (NCCDPHP), Centers for Disease Control and Prevention (CDC).

Background and Brief Description

Arthritis affects nearly 43 million Americans, or about one in every five people, and is the leading cause of disability among adults in the United States. Limitations due to arthritis are particularly burdensome when they affect an individual's mobility, productivity, and ability to earn a living, as well as psychological and social well-being. Because of the broad public health impact of this disease, the Centers for Disease Control and Prevention (CDC) developed the National Arthritis Action Plan in 1998 as a comprehensive approach to reducing the burden of arthritis in the United States.

Hispanics are currently the fastest growing racial/ethnic group in the United States. Although Hispanic populations have a slightly lower prevalence rate of self-reported, doctor-diagnosed arthritis than the general population, Hispanics with arthritis report greater work limitations, and higher rates of severe pain than do Caucasian populations with arthritis. CDC has developed a Spanish-language campaign, Good Morning Arthritis, Today you will not defeat us, to deliver culturally appropriate public health messages about the benefits of physical activity as an arthritis management strategy. Campaign materials include print ads, 30 and 60 second radio ads and public service announcements, and desktop displays with brochures for pharmacies, doctors' offices, and community centers. The campaign is designed to reach Spanish speaking adults with arthritis who are aged 45-64, who have high school education or less, and whose annual income is less than $35,000. CDC plans to conduct the campaign in four experimental markets.

CDC requests clearance to conduct an evaluation of the campaign by collecting information from Spanish-speaking respondents in the four experimental markets and two control markets. An initial data collection will consist of telephone interviews, and will be based on a pre- and post-campaign evaluation design. A follow-up telephone interview, involving a subset of the initial respondents, will be conducted six months later. Results will be used to guide the public health practice of the 36 CDC-funded state arthritis programs and their partners.

There are no costs to respondents other than their time. The estimated annualized burden hours are 2,730.

Estimated Annualized Burden Hours
Type of respondents | Form name | Number of respondents | Number of responses per respondent | Average burden per response (in hours)
Target Population of Hispanic Adults | Screener for Primary Pre- and Post Campaign Survey | 60,000 | 1 | 2/60
| Primary Pre- and Post Campaign Survey | 2,400 | 1 | 13/60
| Screener for 6-Month Follow-up Survey | 2,400 | 1 | 2/60
| 6-Month Follow-up Survey | 600 | 1 | 13/60

Dated: November 16, 2007.
Marilyn S. Radke,
Reports Clearance Officer, Centers for Disease Control and Prevention.

[FR Doc. E7-22930 Filed 11-23-07; 8:45 am]

BILLING CODE 4163-18-P